DEPARTMENT OF HEALTH AND HUMAN SERVICES

National Institutes of Health

Center for Scientific Review; Cancellation of Meeting

Notice is hereby given of the cancellation of the Center for Scientific Review Special Emphasis Panel, April 14, 2014, 10:00 a.m. to April 14, 2014, 8:00 p.m., National Institutes of Health, 6701 Rockledge Drive, Bethesda, MD 20892 which was published in the Federal Register on April 7, 2014, 79 FR 19103.

The meeting is cancelled due to the reassignment of applications.

Dated: April 10, 2014.
Carolyn A. Baum,
Program Analyst, Office of Federal Advisory Committee Policy.

[FR Doc. 2014-08557 Filed 4-15-14; 8:45 am]

BILLING CODE 4140-01-P